DEPARTMENT OF COMMERCE

International Trade Administration

[C-552-813]

Steel Wire Garment Hangers From the Socialist Republic of Vietnam; Continuation of Countervailing Duty Order

AGENCY: Enforcement and Compliance, International Trade Administration, Department of Commerce.

SUMMARY: As a result of determinations by the Department of Commerce (Commerce) and the International Trade Administration (ITC) that revocation of the countervailing duty order on steel wire garment hangers (hangers) from the Socialist Republic of Vietnam (Vietnam) would likely lead to continuation or recurrence of countervailable subsidies and material injury to an industry in the United States, Commerce is publishing a notice of the continuation of the countervailing duty (CVD) order.

DATES: Applicable August 20, 2018.

FOR FURTHER INFORMATION CONTACT: John Conniff, AD/CVD Operations, Office III, Enforcement and Compliance, International Trade Administration, U.S. Department of Commerce, 1401 Constitution Avenue NW, Washington, DC 20230; telephone: (202) 482-1009.

SUPPLEMENTARY INFORMATION:

Background

On February 5, 2013, Commerce published in the Federal Register the notice of the CVD order on hangers from Vietnam.¹ On November 1, 2017, Commerce published the notice of initiation of the first five-year (sunset) review of the CVD order on hangers from Vietnam, pursuant to section 751(c) of the Tariff Act of 1930, as amended (the Act).² On November 1, 2017, the ITC instituted its review of the order.³

¹ See Certain Steel Wire Garment Hangers from the Socialist Republic of Vietnam: Countervailing Duty Order, 78 FR 8107 (February 5, 2013) (Order).

² See Initiation of Five-Year (“Sunset”) Reviews, 82 FR 50,612 (November 1, 2017) (Initiation).

³ See Steel Wire Garment Hangers from Taiwan and Vietnam; Institution of Five-Year Reviews, 82 FR 50686 (November 1, 2017).

As a result of the sunset review, Commerce found that revocation of the CVD order on hangers from Vietnam would likely lead to continuation or recurrence of countervailable subsidies.⁴ Commerce, therefore, notified the ITC of the magnitude of the countervailable subsidy rates likely to prevail should the CVD order be revoked.

⁴ See Steel Wire Garment Hangers from the Socialist Republic of Vietnam: Final Results of Expedited First Sunset Review of the Countervailing Duty Order, 83 FR 10660 (March 12, 2018) (Expedited Final Results) and accompanying decision memorandum.

On May 22, 2018, pursuant to sections 751(c) and 752(a) of the Act, the ITC published its determination that revocation of the CVD order on hangers from Vietnam would likely lead to continuation or recurrence of material injury to an industry in the United States within a reasonably foreseeable time.⁵

⁵ See Steel Wire Garment Hangers from Taiwan and Vietnam, Investigation Nos. 701-TA-487 and 731-TA-1197-1198 (Review), USITC Publication 4784 (May 2018); see also Steel Wire Garment Hangers from Taiwan and Vietnam, 83 FR 23723 (May 22, 2018).

Scope of the Order

The merchandise subject to the Order is steel wire garment hangers, fabricated from carbon steel wire, whether or not galvanized or painted, whether or not coated with latex or epoxy or similar gripping materials, and/or whether or not fashioned with paper covers or capes (with or without printing) and/or nonslip features such as saddles or tubes. These products may also be referred to by a commercial designation, such as shirt, suit, strut, caped, or latex (industrial) hangers.

Specifically excluded from the scope of the Order are (a) wooden, plastic, and other garment hangers that are not made of steel wire; (b) steel wire garment hangers with swivel hooks; (c) steel wire garment hangers with clips permanently affixed; and (d) chrome-plated steel wire garment hangers with a diameter of 3.4 mm or greater.

The products subject to the Order are currently classified under U.S. Harmonized Tariff Schedule (HTSUS) subheadings 7326.20.0020 and 7323.99.9080. Although the HTSUS subheadings are provided for convenience and customs purposes, the written description of the merchandise is dispositive.

Continuation of the Order

As a result of the determinations by Commerce and the ITC that revocation of the CVD order would likely lead to continuation or recurrence of countervailable subsidies and material injury to an industry in the United States, pursuant to section 751(d)(2) of the Act and 19 CFR 351.218(a), Commerce hereby orders the continuation of the CVD order on hangers from Vietnam.

U.S. Customs and Border Protection will continue to collect CVD cash deposits at the rates in effect at the time of entry for all imports of subject merchandise. The effective date of continuation of this order will be the date of publication in the Federal Register of this notice of continuation. Pursuant to section 751(c)(2) of the Act, Commerce intends to initiate the next five-year review of this order not later than 30 days prior to the fifth anniversary of the effective date of continuation.

This five-year (sunset) review and this notice are in accordance with sections 751(c) of the Act and published pursuant to section 777(i)(1) of the Act and 19 CFR 351.218(f)(4).

Dated: August 14, 2018.
Gary Taverman,
Deputy Assistant Secretary for Antidumping and Countervailing Duty Operations, performing the non-exclusive functions and duties of the Assistant Secretary for Enforcement and Compliance.

[FR Doc. 2018-17908 Filed 8-17-18; 8:45 am]

BILLING CODE 3510-DS-P